DEPARTMENT OF AGRICULTURE

Animal Plant and Health Inspection Service

9 CFR Parts 54 and 79

[Docket No. 97-093-5]

RIN 0579-AA90

Scrapie in Sheep and Goats; Interstate Movement Restrictions and Indemnity Program

Correction

In rule document 01-20693, beginning on page 43964, in the issue of Tuesday, August 21, 2001, (and Federal Register correction C1-20693 printed in 66 FR 46066, on Friday, August 31, 2001) make the following correction:

On page 43964, in the first column, under the heading DATES:, in the last line, “February 18, 2002” should read “February 19, 2002”.

[FR Doc. C1-20693 Filed 9-5-01; 8:45 am]

BILLING CODE 1505-01-D